DEPARTMENT OF HEALTH AND HUMAN SERVICES

Office of the Secretary

[Document Identifier: OS-0990-New; 60-day notice]

Agency Information Collection Activities: Proposed Collection; Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: Regular Clearance, New collection.

Title of Information Collection: Research Integrity Officer Study (RIO Study).

Form/OMB No.: OS-0990-New.

Use: The purpose of this evaluation study is to learn about the level of knowledge, experience, qualifications, authority, position in the organizations, access to resources and other responsiblities that Research Integrity Officers have. This will allow us to evaluate how well the institutions are prepared and able to implement the PHS policies on research misconduct.

Frequency: Reporting, on one occasion.

Affected Public: Business or other for-profit, not-for-profit institutions.

Annual Number of Respondents: 1,420.

Total Annual Responses: 1,420.

Average Burden Per Response: 1,300 for .5 hour; 120 for 1 hour.

Total Annual Hours: 770.

To obtain copies of the supporting statement and any related forms for the proposed paperwork collections referenced above, access the HHS Web site address at http://www.hhs.gov/ocio/infocollect/pending/ or e-mail your request, including your address, phone number, OMB number, and OS document identifier, to naomi.cook@hhs.gov, or call the Reports Clearance Office on (202) 690-6162. Written comments and recommendations for the proposed information collections must be received within 60 days, and directed to the OS Paperwork Clearance Officer at the following address: Department of Health and Human Services, Office of the Secretary, Assistant Secretary for Budget, Technology, and Finance, Office of Information and Resource Management, Attention: Naomi Cook (0990-New), Room 531-H, 200 Independence Avenue, SW., Washington DC 20201.

Dated: May 22, 2006.
Robert E. Polson,
Office of the Secretary, Paperwork Reduction Act Reports Clearance Officer.

[FR Doc. E6-8381 Filed 5-30-06; 8:45 am]

BILLING CODE 4150-28-P